DEPARTMENT OF COMMERCE

National Oceanic and Atmospheric Administration

[I.D. 122602A]

Proposed Information Collection; Comment Request; StormReady and TsunamiReady/StormReady Application Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506 (c)(2)(A)).

DATES: Written comments must be submitted on or before March 3, 2003.

ADDRESSES: Direct all written comments to Diana Hynek, Departmental Paperwork Clearance Officer, Department of Commerce, Room 6625, 14th and Constitution Avenue NW, Washington DC 20230 (or via Internet at dHynek@doc.gov).

FOR FURTHER INFORMATION CONTACT: Requests for additional information or copies of the information collection instrument and instructions should be directed to Stephan Kuhl at Stephan.Kuhl@noaa.gov or at 301-713-0090, extension 175.

SUPPLEMENTARY INFORMATION:

I. Abstract

StormReady and TsunamiReady are voluntary programs offered as a means of providing guidance and incentive to officials interested in improving their respective hazardous weather operations. The StormReady Application Form and TsunamiReady/StormReady Application Form will be used by localities to apply for initial StormReady or TsunamiReady and StormReady recognition and renewal of that recognition every three years. A typical StormReady and/or TsunamiReady community would use this form two times every 10 years. The government will use the information collected by the StormReady or TsunamiReady/StormReady Application Form to determine whether a community has met all of the criteria to receive StormReady and/or TsunamiReady recognition.

II. Method of Collection

The information will be collected through the submission of a paper application form.

III. Data

OMB Number: 0648-0419.

Form Number: None.

Type of Review: Regular submission.

Affected Public: State, Local, or Tribal government (emergency management).

Estimated Number of Respondents: 75.

Estimated Time Per Response: 1 hour.

Estimated Total Annual Burden Hours: 75.

Estimated Total Annual Cost to Public: $27.75.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 20, 2002.
Gwellnar Banks,
Management Analyst, Office of the Chief Information Officer.

[FR Doc. 02-33034 Filed 12-30-02; 8:45 am]

BILLING CODE 3510-KE-S